EXECUTIVE OFFICE OF THE PRESIDENT

Office of National Drug Control Policy

Privacy Act of 1974; System of Records

AGENCY: Office of National Drug Control Policy.

ACTION: Notice of a new system of records.

SUMMARY: Pursuant to the Privacy Act of 1974, the Office of National Drug Control Policy (ONDCP), proposes to establish a new system of records entitled “Correspondence Management systems (CMS) for the Office of National Drug Control Policy (ONDCP)”, ONDCP/001. The system will include correspondence referred to, received by or sent by the ONDCP along with other materials such as log sheets and tracking datasets associated with the ONDCP correspondence processes.

DATES: In accordance with 5 U.S.C. 552a(e)(4) and (11), this system of records notice is effective upon publication, with the exception of the routine uses that are subject to a 30-day period in which to comment, described below. Therefore, please submit any comments by February 20, 2024.

ADDRESSES: Address all comments in writing within 30 days to Anthony Jones, Deputy General Counsel. Email is the most reliable means of communication. Mr. Jones may be contacted by email at OGC@ondcp.eop.gov. Mailing address is: Executive Office of the President, Office of National Drug Control Policy, Joint Base Anacostia-Bolling (JBAB) Bldg./410 Door 23, 250 Murray Lane SW, Washington, DC 20509.

FOR FURTHER INFORMATION CONTACT: Anthony Jones, Deputy General Counsel, Office of National Drug Control Policy, Joint Base Anacostia-Bolling (JBAB) Bldg./410 Door 23, 250 Murray Lane SW, Washington, DC 20509, or by telephone at (202) 395-3493.

SUPPLEMENTARY INFORMATION: ONDCP leads and coordinates the nation's drug policy so that it improves the health and lives of the American people. ONDCP is responsible for the development and implementation of the National Drug Control Strategy and Budget. ONDCP coordinates across 19 Federal agencies as part of a whole-of-government approach to addressing addiction and the overdose epidemic.

The system of records covered by this notice is necessary for the ONDCP to communicate with its partners and stakeholders in the performance of its mission essential functions.

In accordance with 5 U.S.C.552a(r), the Commission has provided a report to OMB and the Congress on the new system of records

SYSTEM NAME AND NUMBER:

Correspondence Management systems (CMS) for the Office of National Drug Control Policy (ONDCP), ONDCP/001.

SECURITY CLASSIFICATION:

Unclassified.

SYSTEM LOCATION:

Offices of the Office of National Drug Control Policy, Joint Base Anacostia-Bolling (JBAB) Bldg./410 Door 23, 250 Murray Lane SW, Washington, DC 20509 and Washington National Records Center, 4205 Suitland Road, Washington, DC 20409.

SYSTEM MANAGER(S):

Anthony Jones, Deputy General Counsel, Office of National Drug Control Policy, Joint Base Anacostia-Bolling (JBAB) Bldg./410 Door 23, 250 Murray Lane SW, Washington, DC 20509. Telephone: (202) 395-3493. Email OGC@ondcp.eop.gov.

AUTHORITY FOR MAINTENANCE OF THE SYSTEM:

5 U.S.C. 301 and 44 U.S.C. 3101.

PURPOSE(S) OF THE SYSTEM:

The System controls and tracks correspondence received or originated by the ONDCP or referred to the ONDCP, and action taken by the ONDCP in response to correspondence received, as well as some internal memoranda, action items, email correspondence, and logs/notes of official telephone calls. It also serves as a reference source for inquiries and response thereto.

CATEGORIES OF INDIVIDUALS COVERED BY THE SYSTEM:

Individuals originating, receiving, or named in correspondence (including attachments) to or from the ONDCP or whose correspondence is referred to the ONDCP, or persons communicating electronically or by telephone with the ONDCP regarding official business of the ONDCP, including Members of Congress, other government officials, individuals, and their representatives; individuals originating, receiving, or named in internal memoranda (including attachments) within the ONDCP, including employees, contractors, and individuals relating policy decisions or administrative matters of significance to the ONDCP; in some instances, ONDCP personnel assigned to handle such correspondence and other matters.

CATEGORIES OF RECORDS IN THE SYSTEM:

Correspondence identification (e.g., correspondence's name, address, title, organization, control number, date of correspondence, date received, subject); status of response within the ONDCP; may include original correspondence, ONDCP's response, office or staff member assigned to handle the matter, referral letters, name and identification of person referring the correspondence, copies of any enclosures, and related materials. Records may include reports or other goods on a given subject or individual. Correspondence identification and tracking information, as well as some substantive information on these matters may be maintained in automated database in electronic format and/or paper files.

RECORD SOURCE CATEGORIES:

Sources of information contained in these systems include individuals, state, local, tribal, and foreign government agencies as appropriate, the executive and legislative branches of the Federal Government, the Judiciary, and interested third parties. The source of the information on the control records contained in these systems is derived from incoming and outgoing correspondence.

ROUTINE USES OF RECORDS MAINTAINED IN THE SYSTEM, INCLUDING CATEGORIES OF USERS AND PURPOSES OF SUCH USES:

In addition to those disclosures generally permitted under 5 U.S.C. 552a(b), all or a portion of the records contained in this system of records may be disclosed as a routine use pursuant to 5 U.S.C. 552a(b)(3) under the circumstances or for the purposes described below, to the extent such disclosures are compatible with the purposes for which the:

a. To contractors, grantees, experts, consultants, students, and others performing or working on a contract, service, grant, cooperative agreement, or other assignment for the federal government, when necessary to accomplish an ONDCP function related to this system of records;

b. To a Member of Congress or staff acting upon the Member's behalf when the Member or staff requests the information on behalf of, and at the request of, the individual who is the subject of the record;

c. Where a record, either alone or in conjunction with other information, indicates a violation or potential violation of law—criminal, civil, or regulatory in nature—the relevant records may be referred to the appropriate federal, state, local, territorial, tribal, or foreign law enforcement authority or other appropriate entity charged with the responsibility for investigating or prosecuting such violation or charged with enforcing or implementing such law;

d. In an appropriate proceeding before a court, grand jury, or administrative or adjudicative body, when the ONDCP determines that the records are arguably relevant to the proceeding; or in an appropriate proceeding before an administrative or adjudicative body when the adjudicator determines the records to be relevant to the proceeding;

e. To a former employee of the ONDCP for purposes of: responding to an official inquiry by a federal, state, or local government entity or professional licensing authority, in accordance with applicable regulations; or facilitating communications with a former employee that may be necessary for personnel-related or other official purposes where the ONDCP requires information and/or consultation from the former employee regarding a matter within that person's former area of responsibility;

f. To the National Archives and Records Administration for purposes of records management inspections conducted under the authority of 44 U.S.C. 2904 and 2906;

g. To appropriate agencies, entities, and persons when (1) the ONDCP suspects or has confirmed that there has been a breach of the system of records; (2) the ONDCP has determined that as a result of the suspected or confirmed breach there is a risk of harm to the individuals, the ONDCP (including its information systems, programs, and operations), the Federal Government, or national security; and (3) the disclosure made to such agencies, entities, and persons is reasonably necessary to assist in connection with the ONDCP's efforts to respond to the suspected or confirmed breach or to prevent, minimize, or remedy such harm;

h. To another Federal agency or Federal entity, when the ONDCP determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

i. To such recipients and under such circumstances and procedures as are mandated by federal statute or treaty.information was collected.

POLICIES AND PRACTICES FOR STORAGE OF RECORDS:

Records are stored in electronic form and on paper.

POLICIES AND PRACTICES FOR RETRIEVAL OF RECORDS:

Information can be retrieved by correspondence control number; name of individual; subject matter of topic; or in some cases, by other identifying search term employed.

POLICIES AND PRACTICES FOR RETENTION AND DISPOSAL OF RECORDS:

Records are retained and disposed of in accordance with the ONDCP record schedules approved by the National Archives and Records Administration, and/or pursuant to General Records Schedules 4.1, item 10, 4.2, or 14.

ADMINISTRATIVE, TECHNICAL, AND PHYSICAL SAFEGUARDS:

Paper records are under security safeguards at both the ONDCP's office and the National Records Center. Such safeguards include storage in a central location within a limited access building and a further limited access suite. Accordingly, access is limited to ONDCP and Record Center employees and contractors with appropriate security clearances. The electronic records are safeguarded by the EOP Office of Administration's Chief Information Officer, Information Assurance Directorate security procedures. Access to the ONDCP's data requires a multi-factor authentication and is limited to ONDCP employees and contractors with appropriate security clearances.

RECORD ACCESS PROCEDURES:

The ONDCP's record access procedures are set forth in 21 CFR 1401.21. That section provides that (a) You can make a Privacy Act request for records about yourself. You also can make a request on behalf of another individual as the parent or legal guardian of a minor, or as the legal guardian of someone determined by a court to be incompetent. (b) To make a request for access to a record, you should write directly to our Office of General Counsel. Heightened security delays mail delivery. To avoid mail delivery delays, we strongly suggest that you email your request to FOIA@ondcp.eop.gov. Our mailing address is: SSDMD/RDS; ONDCP Office of General Counsel; Joint Base Anacostia-Bolling (JBAB); Bldg. 410/Door 123; 250 Murray Lane SW, Washington, DC 20509. To make sure that the Office of General Counsel receives your request without delay, you should include the notation “Privacy Act Request” in the subject line of your email or on the front of your envelope and also at the beginning of your request. (c) You must describe the record that you seek in enough detail to enable ONDCP to locate the system of records containing the record with a reasonable amount of effort. Include specific information about each record sought, such as the time period in which you believe it was compiled, the name or identifying number of each system of records in which you believe it is kept, and the date, title or name, author, recipient, or subject matter of the record. As a general rule, the more specific you are about the record that you seek, the more likely we will be able to locate it in response to your request. (d) When making a Privacy Act request, you must verify your identity in accordance with these procedures to protect your privacy or the privacy of the individual on whose behalf you are acting. If you make a Privacy Act request and you do not follow these identity verification procedures, ONDCP cannot process your request. (1) You must include in your request your full name, citizenship status, current address, and date and place of birth. We may request additional information to verify your identity. To verify your own identity, you must provide an unsworn declaration under 28 U.S.C. 1746, a law that permits statements to be made under penalty of perjury. To fulfill this requirement, you must include the following statement just before the signature on your request: “I declare under penalty of perjury that the foregoing is true and correct. Executed on [date].” (2) If you make a request as the parent or legal guardian of a minor, or as the legal guardian of someone determined by a court to be incompetent, for access to records or information about that individual, you must establish: (i) The identity of the individual who is the subject of the record, by stating the individual's name, citizenship status, current address, and date and place of birth; (ii) Your own identity, as required in paragraph (f)(1) of this section; (iii) That you are the parent or legal guardian of the individual, which you may prove by providing a copy of the individual's birth certificate showing your parentage or a court order establishing your guardianship; and (iv) That you are acting on behalf of the individual in making the request.

CONTESTING RECORD PROCEDURES:

If you are requesting an amendment of an ONDCP record, you must identify each particular record in question and the system of records in which the record is located, describe the amendment that you seek, and state why you believe that the record is not accurate, relevant, timely or complete. You may submit any documentation that you think would be helpful, including an annotated copy of the record.

NOTIFICATION PROCEDURES:

Address inquiries to System Manager named above.

EXEMPTIONS PROMULGATED FOR THE SYSTEM:

None.

HISTORY:

None.

Dated: January 11, 2024.
Anthony Jones,
Deputy General Counsel.

[FR Doc. 2024-00820 Filed 1-17-24; 8:45 am]

BILLING CODE 3280-F5-P